DEPARTMENT OF AGRICULTURE

Forest Service

Ringo Project Environmental Impact Statement

AGENCY: Forest Service, USDA.

ACTION: Notice of Intent to prepare an Environmental Impact Statement.

SUMMARY: The USDA Forest Service will prepare an Environmental Impact Statement (EIS) for a project called Ringo, centered around Ringo Butte south of Wickiup Reservoir on the Crescent Ranger District.

The Ringo project area is home to a myriad of wildlife and plant species including big game species, northern spotted owl, Oregon spotted frog, and other wildlife. The project area borders private forest land on the east as well as surrounding the community of Wickiup Acres. It contains popular locations for hunting, fishing, and other types of recreation. Values and ecosystem services within the Ringo project area were derived from values mapping exercises with the Ringo IDT and from a public meeting. Prominent values expressed include high quality wildlife habitat for sensitive and threatened species, nearby private land and communities, timber, firewood, forest products, access to the forest for hiking, wildlife viewing, driving, winter recreation, developed and dispersed camping, hunting opportunities, and Odell Butte Lookout.

The Ringo Interdisciplinary Team (IDT) determined the largest potential for changes or threats to these values comes from wildfire, insects and disease. As evidenced by the Davis fire, which covers a portion of the planning area, wildfire can rapidly and dramatically alter large areas and affect safety and property. Disturbances such as wildfire and insect and disease outbreaks are natural processes however, with the current fuel loading and high density of trees in the Ringo project area these disturbances can become uncharacteristically severe.

In order to continue to provide these values and services on the landscape into the future, there is a need to reduce tree density and surface fuels in order to restore and maintain a resilient, fire-adapted ecosystem.

The project area is approximately 30,000 acres in portions of the Upper Little Deschutes, Crescent Creek, Middle Little Deschutes, and Brown's Creek-Deschutes watersheds. It is located in T. 22 S., R. 8 E.; and R. 9 E.; T. 23 S., R. 8 E.; and R. 9 E.; T. 24 S., R. 7 E.; T. and R. 8 E.; T. 25 S., R. 7 E.; Willamette Meridian. The alternatives would include the proposed action, no action, and additional alternatives that respond to issues generated through the scoping process. The agency will give notice of the full environmental analysis and decision making process so interested and affected parties may participate and contribute to the final decision.

DATES: Comments concerning the scope of the analysis must be received 30 days following the date that this notice appears in the Federal Register.

ADDRESSES: Send written comments to Holly Jewkes, District Ranger, Crescent Ranger District, P.O. Box 208, Crescent, OR 97733. Comments can also be emailed to: comments-pacificnorthwest-deschutes-crescent@fs.fed.us. The public will have another opportunity to comment when alternatives have been developed and the environmental impact statement is made available.

FOR FURTHER INFORMATION CONTACT: Ringo project leads Michelle King, District Environmental Coordinator at (541) 433-3216, or Joe Bowles, District Silviculturist at (541) 433-3200.

Responsible Official: The responsible official will be John Allen, Deschutes Forest Supervisor, 63095 Deschutes Market Road, Bend, Oregon, 97701.

SUPPLEMENTARY INFORMATION:

Purpose and Need: The objectives developed for the Ringo Project are consistent with recommendations and direction presented in the Multiple Use Sustained Yield Act of 1960, the National Cohesive Wildland Fire Management Strategy, the Deschutes Land and Resource Management Plan as amended, and other national and regional guidance. The purpose and need of Ringo is to reduce tree density and surface fuels in order to restore and maintain a resilient, fire-adapted ecosystem that will protect or enhance quality habitat for key wildlife species including the northern spotted owl, white-headed woodpecker, and big game, allow for safe and effective wildfire response, maintain developed and dispersed recreational opportunities, and contribute to local and regional economies by providing timber, firewood, and other forest products.

Proposed Action: The proposed action includes approximately 6,688 acres of thinning. This includes primarily thinning from below which removes the smallest trees first until the desired density is achieved. Various techniques would be used to maintain or increase variability in tree spacing. Thinning increases individual tree growth and reduces fire and insect risk by reducing ladder fuels and overall stand density. Less fire resilient tree species such as lodgepole pine and white fir would be preferentially removed. Approximately 4,620 acres are expected to produce a merchantable timber product and the remaining 2,068 acres, which have smaller or fewer trees, may be utilized as chip wood or biomass if market conditions are favorable. Treatments are designed to keep tree densities at desired levels for 20 or 30 years.

Ringo proposes approximately 884 acres of improvement cuts. In lodgepole pine (719 acres) this treatment removes damaged, diseased, or otherwise unhealthy trees. The majority of these stands have previously suffered high mortality from bark beetle attack. Within the range of the northern spotted owl, the overstory is no longer dense enough for spotted owl dispersal habitat. Removing these overstory trees would accelerate growth in the understory to achieve dispersal habitat faster. In mixed conifer areas (165 acres) this treatment would primarily involve removing white fir and other damaged and diseased trees along the edges of the Davis fire. These stands experienced moderate mortality in the fire which produced high ground fuel loads and downed wood. Existing ground fuels and downed wood would also be reduced in these stands to allow for safe and effective fire response.

The proposed action includes approximately 64 acres of meadow enhancement which would occur in wetter lodgepole pine areas that previously were more open. The majority of trees would be removed from these areas. Meadows and grasslands are a rare habitat on the Deschutes National Forest. This treatment would enhance understory vegetation which is important for big game and other animal species.

There will also be road status changes meaning roads that are currently classified as open but are physically blocked or missmapped would be closed and alternate ingress and egress routes currently listed as closed would be opened. This will reduce confusion in the event of wildfire evacuations and further aid the safety and effectiveness of wildfire response.

Additional treatments include slash treatments and underburning. Slash created by the proposed mechanical activities would be treated by a variety of methods in order to create desired fuels conditions. Methods include hand and grapple piling followed by pile burning, utilization, or chipping/grinding. Approximately 5,476 acres of underburning would occur in the majority of ponderosa pine dominated stands after mechanical treatment. Additional areas that were previously treated in other projects or whose current conditions facilitate safe and effective operations are also included.

The combination of these activities provide for a more resilient and fire-adapted ecosystem. By reducing the overall landscape wildfire risk, dense wildlife habitat such as northern spotted owl nesting roosting and foraging (NRF) and big game hiding cover will be protected without receiving thinning treatments. Wildlife habitat will be enhanced by reducing nest predation in white-headed wood pecker habitat with open ponderosa pine, increasing individual tree growth in areas that can provide future NRF, and providing better big game forage in meadow enhancements. Safe and effective wildfire response will be aided by reduced fire intensities and the flexibility of using recently treated areas for suppression as well as clearer routes for public evacuation by road. Recreation opportunities would be maintained by reducing the risk of large fires that negatively affect the wildlife, trees, and other characteristics that draw people to the Ringo area. Finally, wood products removed in these treatments would provide timber, firewood and other forest products to the local and regional economies.

Comment: Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to object to the subsequent decision under 36 CFR 218. Additionally, pursuant to 7 CFR 1.27(d), any person may request the agency to withhold a submission from public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days. A draft EIS will be filed with the Environmental Protection Agency (EPA) and available for public review by spring 2016. The EPA will publish a Notice of Availability (NOA) of the draft EIS in the Federal Register. The final EIS is scheduled to be available in the fall of 2016. The comment period on the draft EIS will be 45 days from the date the EPA publishes the NOA in the Federal Register.

The Forest Service believes, at this early state, it is important to give reviewers notice of several court rulings related to public participation in the environmental review process. First, reviewers of a draft EIS must structure their participation in the environmental review of the proposal so that it is meaningful and alerts an agency to the reviewer's position and contentious [Vermont Yankee Nuclear Power Corp. v. NRDC, 435 U.S. 519, 533 (1978)]. Also, environmental objections that could be raised at the draft EIS state but that are not raised until after completion of the final EIS may be waived or dismissed by the courts [City of Angoon v. Harris, 490 F. Supp. 1334, 1338 (E.D. Wis. 1980)]. Because of these court rulings, it is very important that those interested in this proposed action participate by the close of the 45-day comment period so that comments and objections are made available to the Forest Service at a time when it can be meaningfully considered and respond to them in the final EIS.

To assist the Forest Service in identifying the considering issues and concerns on the proposed action, comments on the draft EIS should be as specific as possible. It is also helpful if comments refer to specific pages or chapters of the draft statement. Comments may also address the adequacy of the draft EIS of the merits of the alternative formulated and discussed in the statement. Reviewers may wish to refer to the Council on Environmental Quality Regulations for implementing the procedural provisions of the National Environmental Policy Act at 40 CFR 1503.3 in addressing these points. In the final EIS, the Forest Service is required to respond to substantive comments received during the comment period for the draft EIS. The Forest Service is the lead agency and the responsible official is the Forest Supervisor for the Deschutes National Forest. The responsible official will decide where, and whether or not to take action to meet the desired condition within the project area. The responsible official will also decide how to mitigate impacts of these actions and will determine when and how monitoring of effects will take place.

The Ringo project decision and rationale will be documented in the Record of Decision. Per 36 CFR 218.7(a)(2), this is a project implementing a land management plan and not authorized under HFRA, section 101(2), and is thus subject to subparts A and C of 36 CFR 218—Project level Predecisional Administrative Review Process.

Dated: June 8, 2015.
Holly Jewkes,
District Ranger.

[FR Doc. 2015-14713 Filed 6-15-15; 8:45 am]

BILLING CODE 3410-11-P